FEDERAL HOUSING FINANCE BOARD

[No. 2001-N-14]

Federal Home Loan Bank Members Selected for Community Support Review

AGENCY: Federal Housing Finance Board.

ACTION: Notice.

SUMMARY: The Federal Housing Finance Board (Finance Board) is announcing the Federal Home Loan Bank (Bank) members it has selected for the 2000-01 eighth quarter review cycle under the Finance Board's community support requirement regulation. This notice also prescribes the deadline by which Bank members selected for review must submit Community Support Statements to the Finance Board.

DATES: Bank members selected for the 2000-01 eighth quarter review cycle under the Finance Board's community support requirement regulation must submit completed Community Support Statements to the Finance Board on or before February 28, 2002.

ADDRESSES: Bank members selected for the 2000-01 eighth quarter review cycle under the Finance Board's community support requirement regulation must submit completed Community Support Statements to the Finance Board either by regular mail at the Office of Policy, Research and Analysis, Program Assistance Division, Federal Housing Finance Board, 1777 F Street, NW., Washington, DC 20006, or by electronic mail at FITZGERALDE@FHFB.GOV.

FOR FURTHER INFORMATION CONTACT: Emma J. Fitzgerald, Program Analyst, Office of Policy, Research and Analysis, Program Assistance Division, by telephone at 202/408-2874, by electronic mail at FITZGERALDE@FHFB.GOV, or by regular mail at the Federal Housing Finance Board, 1777 F Street, NW., Washington, DC 20006. A telecommunications device for deaf persons (TDD) is available at 202/408-2579.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to the requirements of section 10(g) of the Bank Act, the Finance Board has promulgated a community support requirement regulation that establishes standards a Bank member must meet in order to maintain access to long-term advances, and review criteria the Finance Board must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least one year. Selection for review is not, nor should it be construed as, any indication of either the financial condition or the community support performance of the member.

Each Bank member selected for review must complete a Community Support Statement and submit it to the Finance Board by the February 28, 2002 deadline prescribed in this notice. 12 CFR 944.2(b)(1)(ii) and (c). On or before January 28, 2002, each Bank will notify the members in its district that have been selected for the 2000-01 eighth quarter community support review cycle that they must complete and submit to the Finance Board by the deadline a Community Support Statement. 12 CFR 944.2(b)(2)(i). The member's Bank will provide a blank Community Support Statement Form, which also is available on the Finance Board's web site: WWW.FHFB.GOV. Upon request, the member's Bank also will provide assistance in completing the Community Support Statement.

The Finance Board has selected the following members for the 2000-01 eighth quarter community support review cycle:

Member | City | State
Federal Home Loan Bank of Boston—District 1
Savings Bank of Danbury | Danbury | Connecticut.
American Eagle Federal Credit Union | East Hartford | Connecticut.
InsurBanc, FSB | Farmington | Connecticut.
Savings Bank Life Insurance | Hartford | Connecticut.
Dime Savings Bank of Norwich | Norwich | Connecticut.
Stafford Savings Bank | Stafford Springs | Connecticut.
Sikorsky Federal Credit Union | Stratford | Connecticut.
Torrington Savings Bank | Torrington | Connecticut.
Constitution State Corporate Credit Union Inc | Wallingford | Connecticut.
North American Bank & Trust Company | Waterbury | Connecticut.
Webster Bank | Waterbury | Connecticut.
Maine State Employee's Credit Union | Augusta | Maine.
Biddeford Savings Bank | Biddeford | Maine.
Atlantic Regional Federal Credit Union | Brunswick | Maine.
Ocean National Bank of Kennebunk | Kennebunk | Maine.
Community Credit Union | Lewiston | Maine.
Rainbow Federal Credit Union | Lewiston | Maine.
Ste. Croix Regional Federal Credit Union | Lewiston | Maine.
Portland Regional Federal Credit Union | Portland | Maine.
Evergreen Credit Union | Westbrook | Maine.
The Provident Bank | Amesbury | Massachusetts.
Athol-Clinton Co-operative Bank | Athol | Massachusetts.
Citizens Bank of Massachusetts | Boston | Massachusetts.
Member Plus Credit Union | Boston | Massachusetts.
Postal Community Credit Union | Boston | Massachusetts.
TELECOM Cooperative Bank | Boston | Massachusetts.
Bridgewater Savings Bank | Bridgewater | Massachusetts.
Metropolitan Credit Union | Chelsea | Massachusetts.
Pilgrim Co-operative Bank | Cohasset | Massachusetts.
Everett Co-operative Bank | Everett | Massachusetts.
St. Anne's Credit Union of Fall River | Fall River | Massachusetts.
I-C Federal Credit Union | Fitchburg | Massachusetts.
Community National Bank | Hudson | Massachusetts.
Jeanne D'Arc Credit Union | Lowell | Massachusetts.
Washington Savings Bank | Lowell | Massachusetts.
St. Mary's Credit Union | Marlborough | Massachusetts.
Medway Co-operative Bank | Medway | Massachusetts.
Auburndale Co-operative Bank | Newton | Massachusetts.
North Easton Savings Bank | North Easton | Massachusetts.
City Savings Bank | Pittsfield | Massachusetts.
Greylock Federal Credit Union | Pittsfield | Massachusetts.
Winter Hill Federal Savings Bank | Somerville | Massachusetts.
Mt. Washington Cooperative Bank | South Boston | Massachusetts.
Webster Five Cents Savings Bank | Webster | Massachusetts.
Mutual Federal Savings Bank | Whitman | Massachusetts.
Winchester Savings Bank | Winchester | Massachusetts.
Ledyard National Bank | Hanover | New Hampshire.
Monadnock Community Bank | Peterborough | New Hampshire.
Pemigewasset National Bank | Plymouth | New Hampshire.
Northeast Credit Union | Portsmouth | New Hampshire.
Southern New Hampshire Bank & Trust | Windham | New Hampshire.
Woodsville Guaranty Savings Bank | Woodsville | New Hampshire.
The People's Credit Union | Middleton | Rhode Island.
Pawtucket Credit Union | Pawtucket | Rhode Island.
Coastway Credit Union | Providence | Rhode Island.
Fleet National Bank | Providence | Rhode Island.
Vermont Development Credit Union | Burlington | Vermont.
Community National Bank | Derby | Vermont.
The First National Bank of Orwell | Orwell | Vermont.
Wells River Savings Bank | Wells River | Vermont.
Federal Home Loan Bank of New York—District 2
Sterling Bank | Mt. Laurel | New Jersey.
Roselle Savings Bank | Roselle | New Jersey.
Summit Federal Savings and Loan Association | Summit | New Jersey.
Great Falls Bank | Totowa | New Jersey.
Sun National Bank | Vineland | New Jersey.
Valley National Bank | Wayne | New Jersey.
Marathon National Bank of New York | Astoria | New York.
Seneca Federal Savings and Loan Association | Baldwinsville | New York.
Ballston Spa National Bank | Ballston Spa | New York.
Bath National Bank | Bath | New York.
New York National Bank | Bronx | New York.
Dime Savings Bank of Williamsburg | Brooklyn | New York.
Community Bank, N.A | Canton | New York.
The North Country Savings Bank | Canton | New York.
Carthage Federal Savings and Loan Association | Carthage | New York.
Lake Shore Savings & Loan Association | Dunkirk | New York.
Ellenville National Bank | Ellenville | New York.
Savings Bank of the Finger Lakes | Geneva | New York.
Evergreen Bank, N.A | Glens Falls | New York.
City National Bank and Trust Company | Gloverville | New York.
The First National Bank of Jeffersonville | Jeffersonville | New York.
Sound Federal Savings and Loan Association | Mamaroneck | New York.
Bank Audi (USA) | New York | New York.
North Fork Bank | New York | New York.
Ridgewood Savings Bank | New York | New York.
Alliance Bank, NA | Oneida | New York.
ESL Federal Credit Union | Rochester | New York.
Geddes Federal Savings and Loan Association | Syracuse | New York.
National Bank of Delaware County | Walton | New York.
EuroBank | Hato Rey | Puerto Rico.
R & G Premier Bank of Puerto Rico | Hato Rey | Puerto Rico.
Federal Home Loan Bank of Pittsburgh—District 3
The First National Bank of Berwick | Berwick | Pennsylvania.
American Eagle Savings Bank, PaSA | Boothwyn | Pennsylvania.
Commerce Bank/Harrisburg, N.A | Camp Hill | Pennsylvania.
Croydon Savings Bank | Croydon | Pennsylvania.
FNB Bank, N.A | Danville | Pennsylvania.
Bank of Lancaster County, N.A | East Petersburg | Pennsylvania.
Marquette Savings Bank | Erie | Pennsylvania.
First United National Bank | Fryburg | Pennsylvania.
Adams County National Bank | Gettysburg | Pennsylvania.
First National Bank of Greencastle | Greencastle | Pennsylvania.
Huntingdon Savings Bank | Huntingdon | Pennsylvania.
Huntingdon Valley Bank | Huntingdon Valley | Pennsylvania.
First Commonwealth Bank | Indiana | Pennsylvania.
Abington Bank | Jenkintown | Pennsylvania.
Merchants National Bank of Kittanning | Kittanning | Pennsylvania.
Fulton Bank | Lancaster | Pennsylvania.
Citizens National Bank | Lansford | Pennsylvania.
The First National Bank of Lilly | Lilly | Pennsylvania.
Savings and Loan Association of Milton, Pa | Milton | Pennsylvania.
The First National Bank of Newport | Newport | Pennsylvania.
The Northumberland National Bank | Northumberland | Pennsylvania.
Berean Federal Savings Bank | Philadelphia | Pennsylvania.
First Republic Bank | Philadelphia | Pennsylvania.
Tioga-Franklin Savings Association | Philadelphia | Pennsylvania.
United Savings Bank | Philadelphia | Pennsylvania.
Fidelity Bank PaSb | Pittsburgh | Pennsylvania.
Prestige Bank | Pittsburgh | Pennsylvania.
Progress Federal Savings Bank | Plymouth Meeting | Pennsylvania.
West Milton State Bank | West Milton | Pennsylvania.
Bank of Charles Town | Charles Town | West Virginia.
Potomac Valley Bank | Petersburg | West Virginia.
Capon Valley Bank | Wardensville | West Virginia.
The Citizens Bank of Weston, Inc | Weston | West Virginia.
Federal Home Loan Bank of Atlanta—District 4
First National Bank of Central Alabama | Aliceville | Alabama.
Farmers and Merchants Bank | Centre | Alabama.
Regions Bank | Birmingham | Alabama.
First Metro Bank | Muscle Shoals | Alabama.
West Alabama Bank and Trust | Reform | Alabama.
Bank Independent | Sheffield | Alabama.
First Southern National Bank | Stevenson | Alabama.
The Bank | Warrior | Alabama.
Treasury Bank, NA | Washington | DC.
Turnberry Bank | Aventura | Florida.
EuroBank | Boca Raton | Florida.
Destin Bank | Destin | Florida.
Englewood Bank | Englewood | Florida.
First Community Bank of Southwest Florida | Fort Myers | Florida.
Jacksonville Fireman's Credit Union | Jacksonville | Florida.
CNB National Bank | Lake City | Florida.
Peoples Community Bank | Malone | Florida.
BAC Florida Bank | Miami | Florida.
Executive National Bank | Miami | Florida.
Gulf Bank | Miami | Florida.
Fifth Third Bank, Florida | Naples | Florida.
Florida Citizens Bank | Ocala | Florida.
Bank of Central Florida | Orlando | Florida.
Madison Bank | Palm Harbor | Florida.
First American Bank of Pensacola, N.A | Pensacola | Florida.
Sunshine State FS&L Association | Plant City | Florida.
Colony Bank Ashburn | Ashburn | Georgia.
Community National Bank | Ashburn | Georgia.
Cornerstone Bank | Atlanta | Georgia.
Atlantic National Bank | Brunswick | Georgia.
Bartow County Bank | Cartersville | Georgia.
Columbus Bank and Trust Company | Columbus | Georgia.
Lumpkin County Bank | Dahlonega | Georgia.
Farmers State Bank | Dublin | Georgia.
Towns County Bank | Hiawasee | Georgia.
Heritage Bank | Jonesboro | Georgia.
Charter Bank and Trust Company | Marietta | Georgia.
First Capital Bank | Norcross | Georgia.
Waycross Bank and Trust | Waycross | Georgia.
United Bank | Zebulon | Georgia.
Colombo Bank | Baltimore | Maryland.
The Harbor Bank of Maryland | Baltimore | Maryland.
Sequoia Bank | Bethesda | Maryland.
The Peoples Bank of Maryland | Denton | Maryland.
Farmers and Merchants Bank | Upperco | Maryland.
High Country Bank | Boone | North Carolina.
Four Oaks Bank & Trust Company | Four Oaks | North Carolina.
KS Bank | Kenly | North Carolina.
Bank of Davie | Mocksville | North Carolina.
Bank of Currituck | Moyock | North Carolina.
Carolina Community Bank | Murphy | North Carolina.
Roanoke Rapids Savings Bank, SSB | Roanoke Rapids | North Carolina.
Jackson Savings Bank, S.S.B | Sylva | North Carolina.
Tarboro Savings Bank, S.S.B | Tarboro | North Carolina.
Security Federal Bank | Aiken | South Carolina.
Bank of Anderson | Anderson | South Carolina.
BB & T of SC | Greenville | South Carolina.
Summit National Bank | Greenville | South Carolina.
CapitalBank | Greenwood | South Carolina.
Palmetto State Bank | Hampton | South Carolina.
Beach First National Bank | Myrtle Beach | South Carolina.
Newberry Federal Savings Bank | Newberry | South Carolina.
Highlands Union Bank | Abingdon | Virginia.
The First Bank and Trust Company | Abingdon | Virginia.
First National Bank of Altavista | Altavista | Virginia.
Bank of Clarke County | Berryville | Virginia.
Guaranty Bank | Charlottesville | Virginia.
Capital One, F.S.B | Falls Church | Virginia.
The Bank of Floyd | Floyd | Virginia.
Miners and Merchants Bank & Trust Company | Grundy | Virginia.
Rockingham Heritage Bank | Harrisonburg | Virginia.
Bank of Marion | Marion | Virginia.
Heritage Bank and Trust | Norfolk | Virginia.
Central Virginia Bank | Powhaton | Virginia.
Bank of Essex | Tappahannock | Virginia.
Resource Bank | Virginia Beach | Virginia.
The Fauquier Bank | Warrenton | Virginia.
F & M Bank—Winchester | Winchester | Virginia.
Federal Home Loan Bank of Cincinnati—District 5
Auburn Banking Company | Auburn | Kentucky.
The Peoples Exchange Bk of Beattyville | Beattyville | Kentucky.
Central Appalachian Peoples FCU | Berea | Kentucky.
Farmers State Bank | Booneville | Kentucky.
The First National Bank of Brooksville | Brooksville | Kentucky.
Heritage Bank, Inc | Burlington | Kentucky.
Community Trust Bank, F.S.B | Campbellsville | Kentucky.
First National Bank of Clinton | Clinton | Kentucky.
Bank of Ohio County | Dundee | Kentucky.
Elkton Bank and Trust Company | Elkton | Kentucky.
Farmers Deposit Bank | Eminence | Kentucky.
Pendleton Federal Savings Bank | Falmouth | Kentucky.
The Bank of Kentucky | Florence | Kentucky.
First Federal Savings Bank of Frankfort | Frankfort | Kentucky.
The Commercial Bank of Grayson | Grayson | Kentucky.
The First National Bank of Grayson | Grayson | Kentucky.
Hebron Deposit Bank | Hebron | Kentucky.
Ohio Valley National Bank | Henderson | Kentucky.
Hyden Citizens Bank | Hyden | Kentucky.
Citizens Guaranty Bank | Irvine | Kentucky.
Citizens B&T Company of Jackson | Jackson | Kentucky.
Peoples Bank | Lebanon | Kentucky.
Lewisburg Banking Company | Lewisburg | Kentucky.
The Vine Street Trust Company | Lexington | Kentucky.
First National Bank and Trust | London | Kentucky.
Bank of Louisville | Louisville | Kentucky.
Stock Yards Bank & Trust Company | Louisville | Kentucky.
Security Bank and Trust Company | Maysville | Kentucky.
Citizens Bank | Morehead | Kentucky.
Citizens Bank of Campbell County, Inc | Newport | Kentucky.
First Farmers Bank and Trust Company | Owenton | Kentucky.
Paducah Bank and Trust Company | Paducah | Kentucky.
Kentucky Bank | Paris | Kentucky.
Farmers Bank and Trust Company, Inc | Princeton | Kentucky.
Kentucky Bank and Trust of Greenup County | Russell | Kentucky.
Salyersville National Bank | Salyersville | Kentucky.
Citizens Union Bank of Shelbyville | Shelbyville | Kentucky.
Peoples Bank of Kentucky, Inc | Stanford | Kentucky.
Bank of the Mountains | West Liberty | Kentucky.
Winchester Federal Savings Bank | Winchester | Kentucky.
North Akron Savings Bank | Akron | Ohio.
The Andover Bank | Andover | Ohio.
The Sutton Bank | Attica | Ohio.
Farmers National Bank | Canfield | Ohio.
The Cincinnatus Savings and Loan Company | Cheviot | Ohio.
Foundation Savings Bank | Cincinnati | Ohio.
The Provident Bank | Cincinnati | Ohio.
The Union Bank Company | Columbus Grove | Ohio.
Heartland Federal Credit Union | Dayton | Ohio.
The State Bank and Trust Company | Defiance | Ohio.
Potters Bank | East Liverpool | Ohio.
Fremont Federal Credit Union | Fremont | Ohio.
The Ohio Valley Bank Company | Gallipolis | Ohio.
The Sycamore National Bank | Groesbeck | Ohio.
The Harrison Building and Loan Association | Harrison | Ohio.
Oak Hill Banks | Jackson | Ohio.
The Bank of Leipsic Company | Leipsic | Ohio.
The Lorain National Bank | Lorain | Ohio.
The Marion Bank | Marion | Ohio.
Minster Bank | Minster | Ohio.
First National Bank of New Bremen | New Bremen | Ohio.
Farmers State Bank | New Madison | Ohio.
The Sherwood State Bank | Sherwood | Ohio.
First Bank of Ohio | Tiffin | Ohio.
The Citizens National Bank of Urbana | Urbana | Ohio.
The Waverly Building and Loan Company | Waverly | Ohio.
National Bank and Trust Company | Wilmington | Ohio.
Woodsfield Savings Bank | Woodsfield | Ohio.
The Wayne County National Bank of Wooster | Wooster | Ohio.
First South Bank | Bolivar | Tennessee.
Union Planters Bank, National Association | Cordova | Tennessee.
The Weakley County Bank | Dresden | Tennessee.
Franklin National Bank | Franklin | Tennessee.
Bank of Friendship | Friendship | Tennessee.
The First National Bank of LaFollette | LaFollette | Tennessee.
McKenzie Banking Company | McKenzie | Tennessee.
Security Federal Savings Bank | McMinnville | Tennessee.
Financial Federal Savings Bank | Memphis | Tennessee.
First Tennessee Bank National Association | Memphis | Tennessee.
Nashoba Bank | Memphis | Tennessee.
Munford Union Bank | Munford | Tennessee.
Bank of Ripley | Ripley | Tennessee.
First Community Bank of East Tennessee | Rogersville | Tennessee.
The Citizens Bank of East Tennessee | Rogersville | Tennessee.
Hardin County Bank | Savannah | Tennessee.
Bank of Commerce | Trenton | Tennessee.
Wayne County Bank | Waynesboro | Tennessee.
Federal Home Loan Bank of Indianapolis—District 6
Central National Bank & Trust Company | Attica | Indiana.
Hoosier Hills Credit Union | Bedford | Indiana.
Bloomfield State Bank | Bloomfield | Indiana.
IU Employees Federal Credit Union | Bloomington | Indiana.
Wayne Bank and Trust Company | Cambridge City | Indiana.
Heritage Community Bank | Columbus | Indiana.
Chiphone Federal Credit Union | Elkhart | Indiana.
Old National Bank in Evansville | Evansville | Indiana.
Fire Police City County Federal Credit Union | Fort Wayne | Indiana.
Midwest American Federal Credit Union | Fort Wayne | Indiana.
Peoples State Bank of Francesville | Francesville | Indiana.
The Friendship State Bank | Friendship | Indiana.
Sand Ridge Bank | Highland | Indiana.
First Bank of Huntingburg | Huntingburg | Indiana.
German American Bank | Jasper | Indiana.
Lafayette Bank and Trust Company | Lafayette | Indiana.
Union County National Bank | Liberty | Indiana.
Lynnville National Bank | Lynnville | Indiana.
Citizens State Bank | New Castle | Indiana.
Union Bank & Trust Company | North Vernon | Indiana.
Notre Dame Federal Credit Union | Notre Dame | Indiana.
State Bank of Oxford | Oxford | Indiana.
First Federal Savings Bank | Rochester | Indiana.
First Source Bank | South Bend | Indiana.
First National Bank of Valparaiso | Valparaiso | Indiana.
CentreBank | Veedersburg | Indiana.
The Merchants Bank & Trust Company | West Harrison | Indiana.
Centier Bank | Whiting | Indiana.
Chemical Bank—Shoreline | Benton Harbor | Michigan.
State Bank of Caledonia | Caledonia | Michigan.
Southern Michigan Bank and Trust | Coldwater | Michigan.
Century Bank and Trust | Coldwater | Michigan.
First State Bank | Decatur | Michigan.
Baybank | Gladstone | Michigan.
Founders Trust Personal Bank | Grand Rapids | Michigan.
West Michigan Community Bank | Hudsonville | Michigan.
Independent Bank | Ionia | Michigan.
The Miners State Bank of Iron River | Iron River | Michigan.
Peninsula Bank of Ishpeming | Ishpeming | Michigan.
The Dart Bank | Mason | Michigan.
Oxford Bank | Oxford | Michigan.
Independent Bank | Rockford | Michigan.
West Shore Bank | Scottville | Michigan.
Federal Home Loan Bank of Chicago—District 7
Midwest Bank of McHenry County | Algonquin | Illinois.
Old Second National Bank of Aurora | Aurora | Illinois.
State Bank of Aviston | Aviston | Illinois.
Beardstown Savings s.b | Beardstown | Illinois.
First Bank, bc | Belvidere | Illinois.
Busey Bank fsb | Bloomington | Illinois.
Great Lakes Bank, National Association | Blue Island | Illinois.
Marine Trust Company | Carthage | Illinois.
Buena Vista National Bank | Chester | Illinois.
Chester National Bank | Chester | Illinois.
The Northern Trust Company | Chicago | Illinois.
Amicus FSB | Cicero | Illinois.
American Savings Bank of Danville | Danville | Illinois.
Republic Bank of Chicago | Darien | Illinois.
The First National Bank of Decatur | Decatur | Illinois.
The First National Bank of Dietrich | Dietrich | Illinois.
East Dubuque Savings Bank | East Dubuque | Illinois.
Citizens Bank of Edinburg | Edinburg | Illinois.
The Bank of Edwardsville | Edwardsville | Illinois.
C.P. Burnett & Sons, Bankers | Eldorado | Illinois.
First State Bank of Eldorado | Eldorado | Illinois.
First Bank & Trust | Evanston | Illinois.
The Fairfield National Bank | Fairfield | Illinois.
Flora Savings Bank | Flora | Illinois.
Marquette Bank Illinois | Galesburg | Illinois.
Glasford State Bank | Glasford | Illinois.
Heritage Community Bank | Glenwood | Illinois.
Golden State Bank | Golden | Illinois.
The Greenup National Bank | Greenup | Illinois.
Clay County State Bank | Louisville | Illinois.
Peoples State Bank | Mansfield | Illinois.
HomeStar Bank | Manteno | Illinois.
First FSB of Mascoutah | Mascoutah | Illinois.
First Federal Savings & Loan Association | Mattoon | Illinois.
Morton Community Bank | Morton | Illinois.
Mt. Morris Savings & Loan Association | Mt. Morris | Illinois.
The First National Bank of Mt. Pulaski | Mt. Pulaski | Illinois.
First State Bank of Newman | Newman | Illinois.
Oak Brook Bank | Oak Brook | Illinois.
TrustBank | Olney | Illinois.
First Federal Savings Bank | Ottawa | Illinois.
First Bank and Trust, SB | Paris | Illinois.
Corn Belt Bank & Trust Company | Pittsfield | Illinois.
Bank of Rantoul | Rantoul | Illinois.
The First National Bank & Trust Co. of Rochelle | Rochelle | Illinois.
Northwest Bank of Rockford | Rockford | Illinois.
First Community Bank | Sherrard | Illinois.
South Holland Trust and Savings Bank | South Holland | Illinois.
Independent Bankers' Bank | Springfield | Illinois.
Sterling Federal Bank, F.S.B | Sterling | Illinois.
Streator Home Building & Loan Association | Streator | Illinois.
The First National Bank of Sullivan | Sullivan | Illinois.
Thomson State Bank | Thomson | Illinois.
Tempo Bank, A Federal Savings Bank | Trenton | Illinois.
Heritage Bank of Central Illinois | Trivoli | Illinois.
Capstone Bank | Watseka | Illinois.
Iroquois Federal Savings and Loan Association | Watseka | Illinois.
Bank of Waukegan | Waukegan | Illinois.
Wemple State Bank | Waverly | Illinois.
State Bank of Illinois | West Chicago | Illinois.
Abottsford State Bank | Abbottsford | Wisconsin.
First Banking Center Burlington | Burlington | Wisconsin.
Cambridge State Bank | Cambridge | Wisconsin.
Community Bank of Central Wisconsin | Colby | Wisconsin.
DMB Community Bank | DeForest | Wisconsin.
Charter Bank Eau Claire | Eau Claire | Wisconsin.
Royal Credit Union | Eau Claire | Wisconsin.
Grafton State Bank | Grafton | Wisconsin.
Hartford Savings Bank | Hartford | Wisconsin.
The Bank of Kaukauna | Kaukauna | Wisconsin.
First National Bank in Manitowoc | Manitowoc | Wisconsin.
The Stephenson National Bank & Trust | Marinette | Wisconsin.
Marshfield Savings Bank | Marshfield | Wisconsin.
Mayville Savings Bank | Mayville | Wisconsin.
McFarland State Bank | McFarland | Wisconsin.
North Milwaukee State Bank | Milwaukee | Wisconsin.
Wells Fargo Bank Wisconsin, N.A | Milwaukee | Wisconsin.
Monona State Bank | Monona | Wisconsin.
Oostburg State Bank | Oostburg | Wisconsin.
United Bank | Osseo | Wisconsin.
The Port Washington State Bank | Port Washington | Wisconsin.
Peoples State Bank | Prairie du Chien | Wisconsin.
F & M Bank—Wisconsin | Pulaski | Wisconsin.
Community First Bank | Rosholt | Wisconsin.
The First National Bank of Stoughton | Stoughton | Wisconsin.
Stratford State Bank | Stratford | Wisconsin.
Bank of Turtle Lake | Turtle Lake | Wisconsin.
First National Bank | Waupaca | Wisconsin.
Peoples State Bank | Wausau | Wisconsin.
State Bank of Withee | Withee | Wisconsin.
Citizens State Bank | Woodville | Wisconsin.
Federal Home Loan Bank of Des Moines—District 8
The First National Bank of Akron | Akron | Iowa.
Farmers State Bank | Algona | Iowa.
Iowa State Bank | Algona | Iowa.
Rolling Hills Bank & Trust | Atlantic | Iowa.
Benton County State Bank | Blairstown | Iowa.
First State Bank | Britt | Iowa.
Poweshiek County Savings Bank | Brooklyn | Iowa.
Tri-County Bank and Trust | Cascade | Iowa.
Center Point Bank and Trust Company | Center Point | Iowa.
Clinton National Bank | Clinton | Iowa.
Northwest Bank and Trust Company | Davenport | Iowa.
Bankers Trust Company, N.A | Des Moines | Iowa.
First Central State Bank | DeWitt | Iowa.
American Trust & Savings Bank | Dubuque | Iowa.
First Security State Bank | Evansdale | Iowa.
Manufacturers Bank & Trust Company | Forest City | Iowa.
Garnavillo Savings Bank | Garnavillo | Iowa.
Hancock County Bank & Trust | Garner | Iowa.
Heritage Bank, N.A | Holstein | Iowa
United Bank of Iowa | Ida Grove | Iowa.
Iowa State Bank & Trust Company | Iowa City | Iowa.
University of Iowa Community Credit Union | Iowa City | Iowa.
Community Choice Credit Union | Johnston | Iowa.
Le Mars Bank & Trust Company | Le Mars | Iowa.
First Community National Bank | Lenox | Iowa.
Luana Savings Bank | Luana | Iowa.
Central State Bank | Muscatine | Iowa.
Bank Iowa | Oskaloosa | Iowa.
Mahaska State Bank | Oskaloosa | Iowa.
Central Valley Bank | Ottumwa | Iowa.
Farmers State Bank | Schleswig | Iowa.
Pioneer Bank | Sergeant Bluff | Iowa.
Iowa State Bank | Sheldon | Iowa.
Bank Iowa | Shenandoah | Iowa.
The Commercial Trust & Savings Bank | Storm Lake | Iowa.
First State Bank | Stuart | Iowa.
American Savings Bank | Tripoli | Iowa.
West Des Moines State Bank | West Des Moines | Iowa.
Farmers Trust & Savings Bank | Williamsburg | Iowa.
Security State Bank of Aitkin, Inc | Aitkin | Minnesota.
Americana National Bank | Albert Lea | Minnesota.
First Federal Bank | Bemidji | Minnesota.
Security Bank USA | Bemidji | Minnesota.
Excel Bank | Edina | Minnesota.
First National Bank of Elk River | Elk River | Minnesota.
First State Bank of Emmons | Emmons | Minnesota.
Security State Bank of Fergus Falls | Fergus Falls | Minnesota.
First State Bank of Finlayson, Inc | Finlayson | Minnesota.
First National Bank | Hawley | Minnesota.
Stearns Bank Holdingford, N.A | Holdingford | Minnesota.
American Bank Lake City | Lake City | Minnesota.
Farmers State Bank of Madelia, Inc | Madelia | Minnesota.
Security State Bank of Mankato | Mankato | Minnesota.
Pioneer Bank | Mapleton | Minnesota.
State Bank of McGregor | McGregor | Minnesota.
Signal Bank N.A | Mendota Heights | Minnesota.
Marquette Capital Bank, N.A | Minneapolis | Minnesota.
Kanabec State Bank | Mora | Minnesota.
Alliance Bank | New Ulm | Minnesota.
Farmers and Merchants State Bank of New York Mills, Inc | New York Mills | Minnesota.
Valley Bank | North Mankato | Minnesota.
HomeTown Bank | Redwood Falls | Minnesota.
Eastwood Bank | Rochester | Minnesota.
First National Bank of the North | Sandstone | Minnesota.
First National Bank of Sauk Centre | Sauk Centre | Minnesota.
Stearns Bank, N.A | St. Cloud | Minnesota.
The Midway National Bank of St. Paul | St. Paul | Minnesota.
The Lake Bank, N.A | Two Harbors | Minnesota.
Stearns Bank Upsala, N.A | Upsala | Minnesota.
Mid-Central Federal Savings Bank | Wadena | Minnesota.
First National Bank of Waseca | Waseca | Minnesota.
Bank 10 | Belton | Missouri.
Farmers State Bank | Cameron | Missouri.
Hometown Bank, N.A | Carthage | Missouri.
First State Bank & Trust Company, Inc | Caruthersville | Missouri.
Citizens Bank & Trust | Chillicothe | Missouri.
First National Bank of Clinton | Clinton | Missouri.
Community Bank of Excelsior Springs | Excelsior Springs | Missouri.
Hume Bank | Hume | Missouri.
Home Savings Bank | Jefferson City | Missouri.
First State Bank of Joplin | Joplin | Missouri.
Bank of Lee's Summit | Lee's Summit | Missouri.
The Farmers Bank of Lincoln | Lincoln | Missouri.
First National Bank of Mt. Vernon | Mt. Vernon | Missouri.
Community Bank and Trust | Neosho | Missouri.
Citizens Bank | New Haven | Missouri.
Bank Star | Pacific | Missouri.
The Paris National Bank | Paris | Missouri.
Bank of the LeadBelt | Park Hills | Missouri.
Unico Bank | Potosi | Missouri.
Phelps County Bank | Rolla | Missouri.
Systematic Savings and Loan Association | Springfield | Missouri.
Farmers and Merchants Bank | St. Clair | Missouri.
Allegiant Bank | St. Louis | Missouri.
Heartland Bank | St. Louis | Missouri.
Osage Valley Bank | Warsaw | Missouri.
First Security Bank-West | Beulah | North Dakota.
Dakota Western Bank | Bowman | North Dakota.
Western State Bank | Devils Lake | North Dakota.
First State Bank of LaMoure | LaMoure | North Dakota.
Federal Home Loan Bank of Dallas—District 9
The First National Bank | Ashdown | Arkansas.
Bank of Bentonville | Bentonville | Arkansas.
Citizens Bank | Booneville | Arkansas.
First Bank of South Arkansas | Camden | Arkansas.
Danville State Bank | Danville | Arkansas.
First State Bank of DeQueen | DeQueen | Arkansas.
First Service Bank | Dermott | Arkansas.
Superior Federal Bank | Fort Smith | Arkansas.
Farmers Bank | Hamburg | Arkansas.
Heritage Bank | Jonesboro | Arkansas.
Eagle Bank & Trust Company | Little Rock | Arkansas.
McGehee Bank | McGehee | Arkansas.
First National Bank in Mena | Mena | Arkansas.
Peoples Bank and Trust Company | Mountain Home | Arkansas.
TrustBanc | Mountain Home | Arkansas.
Bank of Paragould | Paragould | Arkansas.
First State Bank of Pineville | Plainview | Arkansas.
Portland Bank | Portland | Arkansas.
Arkansas State Bank | Siloam Springs | Arkansas.
First National Bank Of Wynne | Wynne | Arkansas.
Peoples Bank of Louisiana | Amite | Louisiana.
Caldwell Bank & Trust Company | Columbia | Louisiana.
Tri-Parish Bank | Eunice | Louisiana.
Louisiana Central Bank | Ferriday | Louisiana.
MidSouth National Bank | Lafayette | Louisiana.
Louisiana Delta Bank | Lake Providence | Louisiana.
Resource Bank | Mandeville | Louisiana.
Omni Bank | Metairie | Louisiana.
Gulf Coast Bank & Trust Company | New Orleans | Louisiana.
United Bank and Trust | New Orleans | Louisiana.
First FS&LA of Allen Parish | Oakdale | Louisiana.
St. Landry Homestead Federal Savings Bank | Opelousas | Louisiana.
Community Bank | Raceland | Louisiana.
First American Bank | Vacherie | Louisiana.
First Federal Savings & Loan | Aberdeen | Mississippi.
Farmers and Merchants Bank | Baldwyn | Mississippi.
Copiah Bank, N.A | Hazlehurst | Mississippi.
Planters Bank & Trust Company | Indianola | Mississippi.
First American National Bank | Iuka | Mississippi.
Citizens Bank and Trust Company | Marks | Mississippi.
Pike County National Bank | McComb | Mississippi.
United Mississippi Bank | Natchez | Mississippi.
Mississippi Telco Federal Credit Union | Pearl | Mississippi.
Western Bank | Alamogordo | New Mexico.
Bank of Albuquerque | Albuquerque | New Mexico.
Western Bank | Artesia | New Mexico.
Western Commerce Bank | Carlsbad | New Mexico.
Citizens Bank | Farmington | New Mexico.
Los Alamos National Bank | Los Alamos | New Mexico.
Portales National Bank | Portales | New Mexico.
Citizens Bank, N.A | Abilene | Texas.
Northwest National Bank of Arlington | Arlington | Texas.
First Bank | Azle | Texas.
First National Bank of Baird | Baird | Texas.
Western American National Bank | Bedford | Texas.
Blanco National Bank | Blanco | Texas.
Legend Bank, N.A | Bowie | Texas.
First State Bank | Bremond | Texas.
First National Bank in Bronte | Bronte | Texas.
First National Bank of Bullard | Bullard | Texas.
First Bank | Burkburnett | Texas.
First Federal Savings Bank | College Station | Texas.
Corsicana National Bank and Trust | Corsicana | Texas.
First Mercantile Bank, N.A | Dallas | Texas.
U.S. Trust Company of Texas, N.A | Dallas | Texas.
The First National Bank of Eagle Lake | Eagle Lake | Texas.
State National Bank | El Paso | Texas.
The First National Bank of Emory | Emory | Texas.
Landmark Bank | Euless | Texas.
Greater South Texas Bank, FSB | Falfurrias | Texas.
Central Bank of Flatonia | Flatonia | Texas.
Pecos County State Bank | Fort Stockton | Texas.
Security State Bank & Trust | Fredericksburg | Texas.
Heritage National Bank | Granbury | Texas.
Preferred Bank | Houston | Texas.
Sterling Bank | Houston | Texas.
Stewart Title Guaranty Company | Houston | Texas.
TIB The Independent BankersBank | Irving | Texas.
State Bank of Texas | Irving | Texas.
The Jacksboro National Bank | Jacksboro | Texas.
Community Bank | Katy | Texas.
Worth National Bank | Lake Worth | Texas.
South Texas National Bank | Laredo | Texas.
NBC Bank, Laredo, NA | Laredo | Texas.
Huntington State Bank | Lufkin | Texas.
Bank of Commerce | McLean | Texas.
USAA Federal Savings Bank | San Antonio | Texas.
Sanderson State Bank | Sanderson | Texas.
First Bank of Snook | Snook | Texas.
City National Bank of Taylor | Taylor | Texas.
First National Bank of Trenton | Trenton | Texas.
Claritybank.com | Uvalde | Texas.
Van Horn State Bank | Van Horn | Texas.
Central National Bank | Waco | Texas.
Wallis State Bank | Wallis | Texas.
Federal Home Loan Bank of Topeka—District 10
FirstBank North | Arvada | Colorado.
Colonial Bank | Aurora | Colorado.
FirstBank of Boulder | Boulder | Colorado.
FirstBank of Breckenridge | Breckenridge | Colorado.
American Business Bank | Denver | Colorado.
First Community Industrial Bank | Denver | Colorado.
Centennial Bank of the West | Eaton | Colorado.
Farmers Bank | Eaton | Colorado.
First National Bank of Estes Park | Estes Park | Colorado.
FirstBank of Northern Colorado | Fort Collins | Colorado.
First National Bank—Colorado | Fowler | Colorado.
Union Colony Bank | Greeley | Colorado.
FirstBank of Tech Center | Greenwood Village | Colorado.
The Gunnison Bank and Trust Company | Gunnison | Colorado.
Red Rocks Federal Credit Union | Highlands Ranch | Colorado.
First State Bank | Idaho Springs | Colorado.
Valley State Bank | Lamar | Colorado.
FirstBank of Longmont | Longmont | Colorado.
Heritage Bank | Louisville | Colorado.
Equitable Savings & Loan Association | Sterling | Colorado.
State Bank of Wiley | Wiley | Colorado.
American Bank | Baxter Springs | Kansas.
Commercial State Bank | Bonner Springs | Kansas.
The Citizens National Bank | Concorida | Kansas.
First Kansas Bank | Gardner | Kansas.
First National Bank | Goodland | Kansas.
The Morrill & Janes Bank and Trust Company | Hiawatha | Kansas.
Hoisington National Bank | Hoisington | Kansas.
First National Bank of Holcomb | Holcomb | Kansas.
Denison State Bank | Holton | Kansas.
First State Bank & Trust Company | Larned | Kansas.
Lyons Federal Savings | Lyons | Kansas.
Morrill State Bank & Trust Company | Sabetha | Kansas.
Sunflower Bank, N.A | Salina | Kansas.
St. Marys State Bank | St. Marys | Kansas.
The First National Bank of Clifton | St. Marys | Kansas.
Emprise Bank | Wichita | Kansas.
First National Bank of Albion | Albion | Nebraska.
Valley Bank and Trust Company | Gering | Nebraska.
Hastings State Bank | Hastings | Nebraska.
Great Western Bank | Omaha | Nebraska.
American National Bank | Omaha | Nebraska.
Security First Bank | Sidney | Nebraska.
Iowa-Nebraska SB | South Sioux City | Nebraska.
Wahoo State Bank | Wahoo | Nebraska.
Citizens Bank & Trust Company | Ardmore | Oklahoma.
Peoples State Bank | Blair | Oklahoma.
Union Bank of Chandler | Chandler | Oklahoma.
The First National Bank of Coweta | Coweta | Oklahoma.
The First National Bank of Davis | Davis | Oklahoma.
Great Plains National Bank | Elk City | Oklahoma.
The Idabel National Bank | Idabel | Oklahoma.
First National Bank | Midwest City | Oklahoma.
All America Bank | Mustang | Oklahoma.
Americrest Bank | Oklahoma City | Oklahoma.
Bridgeview Bank, NA | Oklahoma City | Oklahoma.
Frontier State Bank | Oklahoma City | Oklahoma.
Quail Creek Bank, N.A | Oklahoma City | Oklahoma.
The Community State Bank | Poteau | Oklahoma.
The Exchange Bank | Skiatook | Oklahoma.
First National Bank of Stigler | Stigler | Oklahoma.
Stroud National Bank | Stroud | Oklahoma.
Bank of Oklahoma | Tulsa | Oklahoma.
Tulsa National Bank | Tulsa | Oklahoma.
Waurika National Bank | Waurika | Oklahoma.
Federal Home Loan Bank of San Francisco—District 11
National Bank of Arizona | Phoenix | Arizona.
First National Bank of Nevada | Scottsdale | Arizona.
Jackson Federal Bank | Brea | California.
Tri Counties Bank | Chico | California.
First Northern Bank of Dixon | Dixon | California.
Cedars Bank | Los Angeles | California.
Manufacturers Bank | Los Angeles | California.
United California Bank | Los Angeles | California.
Kaiperm Federal Credit Union | Oakland | California.
World Savings Bank, FSB | Oakland | California.
Citizens Business Bank | Ontario | California.
Cupertino National Bank & Trust | Palo Alto | California.
Courts & Records Federal Credit Union | Pasadena | California.
Bank of the Sierra | Porterville | California.
American River Bank | Sacramento | California.
Mission Federal Credit Union | San Diego | California.
North Island Federal Credit Union | San Diego | California.
University and State Employees Credit Union | San Diego | California.
America California Bank | San Francisco | California.
First Republic Bank | San Francisco | California.
National American Bank | San Francisco | California.
North Coast Bank | Santa Rosa | California.
First Western Bank | Simi Valley | California.
Union Safe Deposit Bank | Stockton | California.
Kaweah National Bank | Visalia | California.
Federal Home Loan Bank of Seattle—District 12
Alaska USA Federal Credit Union | Anchorage | Alaska.
Alaska Pacific Bank | Juneau | Alaska.
First Hawaiian Bank | Honolulu | Hawaii.
Hawaii National Bank | Honolulu | Hawaii.
West Oahu Community Federal Credit Union | Kapolei | Hawaii.
Idaho Independent Bank | Hayden Lake | Idaho.
Bank of Idaho | Idaho Falls | Idaho.
Wells Fargo Bank Montana, N.A | Minneapolis | Minnesota.
Flathead Bank of Bigfork | Bigfork | Montana.
Yellowstone Bank | Billings | Montana.
The United States N.B. of Red Lodge | Red Lodge | Montana.
Valley Bank of Ronan | Ronan | Montana.
Citizens Bank | Corvallis | Oregon.
U-Lane-O Credit Union | Eugene | Oregon.
Oregon Pacific Banking Company | Florence | Oregon.
Southern Oregon Federal Credit Union | Grants Pass | Oregon.
Pacific State Bank | Reedsport | Oregon.
St. Helens Community Federal Credit Union | St. Helens | Oregon.
State Bank of Southern Utah | Cedar City | Utah.
Central Bank | Provo | Utah.
Far West Bank | Provo | Utah.
Liberty Bank | Salt Lake City | Utah.
First Mutual Bank | Bellevue | Washington.
Frontier Bank | Everett | Washington.
City Bank | Lynnwood | Washington.
Redmond National Bank | Redmond | Washington.
Washington School Employees Credit Union | Seattle | Washington.
American West Bank | Spokane | Washington.
Numerica Credit Union | Spokane | Washington.
Washington Trust Bank | Spokane | Washington.
Columbia State Bank | Tacoma | Washington.
Harborstone Credit Union | Tacoma | Washington.
Westside Community Bank | University Place | Washington.
Baker Boyer National Bank | Walla Walla | Washington.
Mid State Bank | Waterville | Washington.
First National Bank of Buffalo | Buffalo | Wyoming.
Wyoming Bank and Trust | Cheyenne | Wyoming.
The Jackson State Bank | Jackson | Wyoming.
First Interstate Bank | Sheridan | Wyoming.

II. Public Comments

To encourage the submission of public comments on the community support performance of Bank members, on or before January 28, 2002, each Bank will notify its Advisory Council and nonprofit housing developers, community groups, and other interested parties in its district of the members selected for community support review in the 2000-01 eighth quarter review cycle. 12 CFR 944.2(b)(2)(ii). In reviewing a member for community support compliance, the Finance Board will consider any public comments it has received concerning the member. 12 CFR 944.2(d). To ensure consideration by the Finance Board, comments concerning the community support performance of members selected for the 2000-01 eighth quarter review cycle must be delivered to the Finance Board on or before the February 28, 2002 deadline for submission of Community Support Statements.

By the Federal Housing Finance Board.
Dated: December 21, 2001.
Arnold Intrater,
Acting General Counsel.

[FR Doc. 02-153 Filed 1-10-02; 8:45 am]

BILLING CODE 6725-01-P